DEPARTMENT OF LABOR

Employment and Training Administration

[TA-W-56,286]

Duracell, a Division of the Gillette Company, Lexington, NC; Notice of Revised Determination on Reconsideration

By letter postmarked April 15, 2005 a petitioner requested administrative reconsideration regarding the Department's Negative Determination Regarding Eligibility to Apply for Worker Adjustment Assistance, applicable to the workers of the subject firm engaged in the production of high power lithium film camera batteries.

The initial investigation resulted in a split determination signed on March 2, 2005. The investigation revealed that workers at the subject facility are separately identifiable as workers engaged in the packaging of zinc air hearing aid batteries and workers engaged in the production of high power lithium film camera batteries. Based on the investigation results, the first group was certified eligible for Trade Adjustment Assistance and Alternative Trade Adjustment Assistance, while the second group was denied these benefits. The negative determination was based on the finding that imports of high power lithium film camera batteries did not contribute importantly to worker separations at the subject plant and no shift of production to a foreign source occurred. The notice was published in the Federal Register on April 1, 2005 (70 FR 16846).

In the request for reconsideration the petitioner alleges that all workers of the subject firm have been cross-trained to perform various tasks within the subject firm and are not separately identifiable by the products manufactured.

A company official was contacted to verify these allegations. The company official stated that the information provided by the subject firm to the Department during the initial investigation was not detailed. The official further stated that in fact, employees of Duracell in Lexington, North Carolina are cross-trained to perform multiple tasks and it is impossible to separate them according to the production lines. Therefore, workers of the subject firm are not separately identifiable.

In accordance with Section 246 of the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the initial investigation, I determine that there was a shift in production from the workers' firm or subdivision to a foreign country of articles that are like or directly competitive with those produced by the subject firm or subdivision, and there has been or is likely to be an increase in imports of like or directly competitive articles. In accordance with the provisions of the Act, I make the following certification:

All workers of Duracell, a division of the Gillette Company, Lexington, North Carolina, who became totally or partially separated from employment on or after December 30, 2003 through two years from the date of this certification, are eligible to apply for adjustment assistance under Section 223 of the Trade Act of 1974, and are eligible to apply for alternative trade adjustment assistance under Section 246 of the Trade Act of 1974.

Signed in Washington, DC, this 19th day of May, 2005.
Elliott S. Kushner,
Certifying Officer, Division of Trade Adjustment Assistance.

[FR Doc. E5-2797 Filed 6-1-05; 8:45 am]

BILLING CODE 4510-30-P